DEPARTMENT OF THE INTERIOR

Bureau of Land Management

[LLORB05000 L12200000 JA0000 L.X.SS.028H000; HAG10-0046]

Notice of Temporary Road Closure of Coal Pit Spring—Cave Gulch Road (6287-0-B0), Within the Cave Gulch Area, Oregon

AGENCY: Bureau of Land Management, Interior.

ACTION: Notice of temporary closure.

SUMMARY: Notice is hereby given that a temporary road closure to public access, use, or occupancy is in effect on public lands administered by the Burns District Office, Bureau of Land Management (BLM), in the Cave Gulch area, approximately 11 miles northwest of Burns, in Harney County, Oregon.

DATES: This temporary road closure became effective following the area's big game hunting season, December 1, 2009, and will continue until the treated areas meet the criteria identified in the Categorical Exclusion (DOI-BLM-OR-B050-2010-0004-CX).

ADDRESSES: The Burns District Office address is 28910 Hwy 20 West, Hines, Oregon 97738.

FOR FURTHER INFORMATION CONTACT: Richard Roy, Three Rivers Resource Area Field Manager, at the address above or by phone at (541) 573-4425.

SUPPLEMENTARY INFORMATION: This temporary road closure to public access affects public lands in the Cave Gulch area. The public lands affected by the closure are as described as follows:

Willamette Meridian, Oregon

T. 21 S., R. 30 E.,

Sec 29 SW¼NW¼ and W½SW¼;

Sec 30 E½;

Sec 32 N½NW¼.

Containing 538 acres in Harney County

During the summer of 2009, unauthorized levels of surface disturbance occurred along some roads and two-track roads in the area of Cave Gulch. As a result, the BLM took immediate action to reduce erosion and to prevent or reduce the levels of noxious and invasive weed establishment in the bare-ground areas that were created. The BLM closed the roads to motorized vehicles to facilitate successful stabilization. The BLM posted signs at main entry points to the temporary closure area.

Maps of the closed roads and information may be obtained from the Burns District Office, 28910 Hwy 20 West, Hines, Oregon 97738. Further information may be obtained from the Cave Gulch Temporary Road Closure and Stabilization Categorical Exclusion, DOI-BLM-OR-B050-2010-0004-CX. This document is available upon request from the Three Rivers Resource Area Field Manager, Burns District Office, Bureau of Land Management, 28910 Hwy 20 West, Hines, Oregon 97738.

The following persons are exempt from this temporary road closure: Federal, state, local officers, and employees in the performance of their official duties and persons with written authorization from the BLM.

Any person who violates the above rule may be tried before a United States Magistrate and fined no more than $1,000, imprisoned for no more than 12 months, or both. Such violations may also be subject to the enhanced fines provided for by 18 U.S.C. 3571.

Authority: 43 CFR 8341.2(a) and 43 CFR 8364.1

Kenny McDaniel,
BLM Burns District Manager.

[FR Doc. 2010-9219 Filed 4-21-10; 8:45 am]

BILLING CODE 4310-33-P